FEDERAL HOUSING FINANCE AGENCY

[No. 2014-N-13]

Federal Home Loan Bank Members Selected for Community Support Review 2014-2015 Review Cycle—4th Round

AGENCY: Federal Housing Finance Agency.

ACTION: Notice.

SUMMARY: The Federal Housing Finance Agency (FHFA) is announcing the Federal Home Loan Bank (Bank) members it has selected for the 2014-2015 Review Cycle—4th Round under FHFA's community support requirements regulation. This Notice also prescribes the deadline by which Bank members selected for this review cycle must submit Community Support Statements to FHFA.

DATES: Bank members selected for this review cycle must submit Community Support Statements to FHFA on or before December 15, 2014. Comments on members' community support performance must be submitted to FHFA by the same date.

ADDRESSES: Submit completed Community Support Statements to FHFA by electronic mail at hmgcommunitysupportprogram@fhfa.gov. A member that does not have electronic mail capability may submit the Community Support Statement by fax to 202-649-4130. Comments on members' community support performance should be submitted to FHFA as provided above.

FOR FURTHER INFORMATION CONTACT: Melissa Allen, Principal Program Analyst, at hmgcommunitysupportprogram@fhfa.gov or 202-658-9266, Office of Housing and Regulatory Policy, Division of Housing Mission and Goals, Federal Housing Finance Agency, Ninth Floor, 400 Seventh Street SW., Washington, DC 20024.

SUPPLEMENTARY INFORMATION:

I. Selection for Community Support Review

Section 10(g)(1) of the Federal Home Loan Bank Act (Bank Act) requires FHFA to promulgate regulations establishing standards of community investment or service that Bank members must meet in order to maintain access to long-term Bank advances. See 12 U.S.C. 1430(g)(1). The regulations promulgated by FHFA must take into account factors such as the Bank member's performance under the Community Reinvestment Act of 1977 (CRA), 12 U.S.C. 2901 et seq., and the Bank member's record of lending to first-time homebuyers. See 12 U.S.C. 1430(g)(2). Pursuant to section 10(g) of the Bank Act, FHFA has promulgated a community support requirements regulation that establishes standards a Bank member must meet in order to maintain access to long-term advances, and establishes review criteria FHFA must apply in evaluating a member's community support performance. See 12 CFR part 1290. The regulation includes standards and criteria for the two statutory factors—members' CRA performance and members' record of lending to first-time homebuyers. 12 CFR 1290.3. Only members subject to the CRA must meet the CRA standard. 12 CFR 1290.3(b). All members subject to community support review, including those not subject to the CRA, must meet the first-time homebuyer standard. 12 CFR 1290.3(c). Members that have been certified as community development financial institutions (CDFIs) are deemed to be in compliance with the community support requirements and are not subject to periodic community support review, unless the CDFI member is also an insured depository institution or a CDFI credit union. 12 CFR 1290.2(e).

Under the regulation, FHFA selects approximately one-eighth of the members in each Bank district for community support review each calendar quarter. 12 CFR 1290.2(a). FHFA will not review an institution's community support performance until it has been a Bank member for at least one year. Selection for review is not, nor should it be construed as, any indication of either the financial condition or the community support performance of the member. On or before November 17, 2014, each Bank will notify the members in its district that have been selected for this review cycle that they must complete and submit Community Support Statements to FHFA by the deadline prescribed in this Notice. 12 CFR 1290.2(b)(2)(i). The member's Bank will provide a blank Community Support Statement Form (OMB No. 2590-0005), which also is available on FHFA's Web site: http://www.fhfa.gov/webfiles/2924/FHFAForm060.pdf. Upon request, the member's Bank also will provide assistance in completing the Community Support Statement. Each Bank member selected for this review cycle must complete the Community Support Statement and submit it to FHFA by the deadline prescribed in this Notice. 12 CFR 1290.2(b)(1)(ii) and (c).

FHFA has selected the following members for this review cycle:

Docket # (FHFAID) | Member | City | State
Federal Home Loan Bank of Boston—District 1
55199 | Ironshore Specialty Insurance Company | Scottsdale | AZ
7397 | UNION SAVINGS BANK | Danbury | CT
55195 | Franklin Trust Federal Credit Union | Hartford | CT
8429 | JEWETT CITY SB | Jewett City | CT
55109 | Meriden Schools | Meriden | CT
5234 | Naugatuck Valley Savings and Loan | Naugatuck | CT
8506 | NEWTOWN SAVINGS BANK | Newtown | CT
6745 | Fairfield County Bank Corp. | Ridgefield | CT
7711 | FIRST COUNTY BANK | Stamford | CT
16621 | Patriot National Bank | Stamford | CT
16401 | Dutch Point Credit Union, Inc. | Wethersfield | CT
16446 | Windsor Locks Federal Credit Union | Windsor Locks | CT
16528 | ATHOL CREDIT UNION | Athol | MA
55297 | Lexington Insurance Company | Boston | MA
55129 | Liberty Life Assurance Company of Boston | Boston | MA
55160 | City of Boston Credit Union | Boston | MA
16448 | Crescent Credit Union | Brockton | MA
7948 | Brookline Bank | Brookline | MA
4594 | NORTH CAMBRIDGE COOP | Cambridge | MA
16273 | CAMBRIDGE TRUST COMP | Cambridge | MA
5824 | Canton Co-operative Bank | Canton | MA
55111 | Norfolk and Dedham Mutual Fire Insurance Company | Dedham | MA
16620 | MEETINGHOUSE CO-OPER | Dorchester | MA
55194 | Premier Source Credit Union | East Longmeadow | MA
13512 | The Edgartown National Bank | Edgartown | MA
55316 | Santo Christo Federal Credit Union | Fall River | MA
2284 | FIDELITY CO-OP BK | Fitchburg | MA
55110 | Metrowest Community Credit Union | Framingham | MA
9582 | GREENFIELD CO-OP | Greenfield | MA
4530 | Haverhill Bank | Haverhill | MA
16297 | Leominster Credit Union | Leominster | MA
4930 | LOWELL CO-OPERATIVE | Lowell | MA
16539 | MARLBOROUGH SAVINGS | Marlborough | MA
4167 | Milford FS & LA | Milford | MA
55271 | New Bedford Credit Union | New Bedford | MA
16919 | Institution Savings in Newburyport and its Vicinity | Newburyport | MA
55010 | Grafton Suburban | North Grafton | MA
15966 | Rockland Federal Credit Union | Rockland | MA
8441 | COOPERATIVE BANK | Roslindale | MA
8342 | SALEM FIVE CENTS SB | Salem | MA
55114 | Somerset Credit Union | Somerset | MA
16568 | Taupa Lithuanian Federal Credit Union | South Boston | MA
16159 | Southbridge Credit Union | Southbridge | MA
55120 | Pioneer Valley Credit Union | Springfield | MA
55196 | STCU Credit Union | Springfield | MA
5068 | COUNTRY BFS | Ware | MA
12405 | WELLESLEY CO-OP | Wellesley | MA
1456 | CAPE COD COOP BK | Yarmouth | MA
7705 | Northeast Bank | Auburn | ME
7107 | BANGOR SAVINGS BANK | Bangor | ME
15914 | Bangor Federal Credit Union | Bangor | ME
6049 | Bar Harbor S & LA | Bar Harbor | ME
55073 | Cport Credit Union | Portland | ME
16338 | York County FCU | Sanford | ME
55295 | Tricorp Federal Credit Union | Westbrook | ME
55309 | American European Insurance Company | Concord | NH
16567 | CENTRIX BANK & TRUST | Bedford | NH
9534 | Northway Bank | Berlin | NH
1007 | PROFILE BANK, FSB | Rochester | NH
16445 | Holy Rosary Regional Credit Union | Rochester | NH
7941 | BANK OF NEWPORT | Newport | RI
16402 | Greenwood Credit Union | Warwick | RI
2460 | The Brattleboro Savings and Loan Association | Brattleboro | VT
Federal Home Loan Bank of New York—District 2
1504 | Cape Bank | Cape May Court House | NJ
3034 | United Roosevelt Savings Bank | Carteret | NJ
12989 | Unity Bank | Clinton | NJ
10064 | 1st Constitution Bank | Cranbury | NJ
1993 | Delanco Federal Savings Bank | Delanco | NJ
16493 | Pinnacle Federal Credit Union | Edison | NJ
2454 | Columbia Bank | Fair Lawn | NJ
4610 | Haven Savings Bank | Hoboken | NJ
55144 | The Atlantic Federal Credit Union | Kenilworth | NJ
55296 | Colonial American Bank | Middletown | NJ
55032 | Garden State Federal Credit Union | Moorestown | NJ
55038 | Proponent Federal Credit Union | Nutley | NJ
55149 | College Savings Bank | Princeton | NJ
5236 | 1st Bank of Sea Isle City | Sea Isle City | NJ
14919 | Union Center National Bank | Union | NJ
5398 | Manasquan Savings Bank | Wall Township | NJ
8063 | Wawel Bank | Wallington | NJ
2422 | Crest Savings Bank | Wildwood Crest | NJ
55033 | First New York Federal Credit Union | Albany | NY
55250 | GHS Federal Credit Union | Binghamton | NY
9545 | The Bridgehampton National Bank | Bridgehampton | NY
10899 | The Bank of Castile | Castile | NY
55049 | Dannemora Federal Credit Union | Dannemora | NY
16625 | Visions Federal Credit Union | Endicott | NY
55277 | First Choice Financial Federal Credit Union | Gloversville | NY
55103 | The First National Bank of Groton | Groton | NY
55227 | Island Federal Credit Union | Hauppauge | NY
10785 | Jeff Bank | Jeffersonville | NY
16125 | The National Union Bank of Kinderhook | Kinderhook | NY
16321 | Mid-Hudson Valley Federal Credit Union | Kingston | NY
5529 | Medina Savings & Loan Association | Medina | NY
55123 | G.P.O. Federal Credit Union | New Hartford | NY
2995 | NorthEast Community Bank | New York | NY
15515 | Israel Discount Bank of New York | New York | NY
16793 | Emigrant Bank | New York | NY
55108 | The United States Life Insurance Company in the Ci | New York | NY
55180 | Genworth Life Insurance Company of New York | New York | NY
10286 | NBT Bank, National Association | Norwich | NY
55249 | Saint Lawrence Federal Credit Union | Ogdensburg | NY
15028 | The Oneida Savings Bank | Oneida | NY
15878 | The Suffolk County National Bank of Riverhead | Riverhead | NY
55236 | Genesee Co-op Federal Credit Union | Rochester | NY
15653 | Sawyer Savings Bank | Saugerties | NY
1473 | Adirondack Bank | Utica | NY
1472 | Hometown Bank of the Hudson Valley | Walden | NY
16339 | First Central Savings Bank | Whitestone | NY
55116 | SUMA (Yonkers) Federal Credit Union | Yonkers | NY
55138 | Scotiabank de Puerto Rico | Hato Rey | PR
55014 | Citibank, N.A. | Sioux Falls | SD
Federal Home Loan Bank of Pittsburgh—District 3
55320 | Applied Bank | Newark | DE
55231 | Metropolitan Tower Life Insurance Company | Newark | DE
4410 | Santander Bank, National Association | Wilmington | DE
11042 | PNC Bank, NA | Wilmington | DE
55232 | MetLife Investors USA Insurance Company | Wilmington | DE
15619 | First National Bank of Wyoming | Wyoming | DE
15591 | American Bank | Allentown | PA
2601 | Iron Worker's Savings Bank | Aston | PA
9583 | National Penn Bank | Boyertown | PA
4441 | Union Building and Loan Savings Bank | Bridgewater | PA
55029 | Atlantic Community Bankers Bank | Camp Hill | PA
12162 | Clearfield Bank & Trust | Clearfield | PA
55290 | Corry Federal Credit Union | Corry | PA
13498 | Centric Bank | Harrisburg | PA
55165 | National Union Fire Company of Pittsburgh, PA | Harrisburg | PA
239 | Indiana First Savings Bank | Indiana | PA
16536 | Jim Thorpe Neighborhood Bank | Jim Thorpe | PA
55136 | Everence Federal Credit Union | Lancaster | PA
13213 | Manor Bank | Manor | PA
16137 | Union Community Bank | Marietta | PA
55253 | Atlantic States Insurance Company | Marietta | PA
55260 | Americhoice Federal Credit Union | Mechanicsburg | PA
55112 | Clearview Credit Union | Moon Township | PA
230 | Standard Bank, PASB | Murrysville | PA
16129 | Sb1 Federal Credit Union | Philadelphia | PA
16450 | American Heritage Federal C.U. | Philadelphia | PA
16361 | Customers Bank | Phoenixville | PA
587 | Brentwood Bank | Pittsburgh | PA
16607 | Allegheny Valley Bank of Pittsburgh | Pittsburgh | PA
55210 | Tri County Area Federal Credit Union | Pottstown | PA
55268 | Guthrie Federal Credit Union | Sayre | PA
9306 | Somerset Trust Company | Somerset | PA
9352 | Univest Bank & Trust Company | Souderton | PA
3439 | Compass Savings Bank | Wilmerding | PA
55288 | Pioneer West Virginia Credit Union | Charleston | WV
2808 | Hancock County Savings Bank, FSB | Chester | WV
9520 | Citizens National Bank of West Virginia | Elkins | WV
15765 | MVB Bank, Inc. | Fairmont | WV
15828 | The Fayette County NB of Fayetteville | Fayetteville | WV
15580 | The Bank of Romney | Romney | WV
10351 | PROGRESSIVE BANK, N.A. | Wheeling | WV
Federal Home Loan Bank of Atlanta—District 4
16250 | America's First Federal Credit Union | Birmingham | AL
55113 | Cadence Bank, N.A. | Birmingham | AL
54977 | AloStar Bank of Commerce | Birmingham | AL
16462 | First Bank of Boaz | Boaz | AL
16597 | Town-Country National Bank | Camden | AL
16470 | Coosa Pines Federal Credit Union | Childersburg | AL
15503 | EvaBank | Eva | AL
16371 | Escambia County Bank | Flomaton | AL
7048 | First Federal Bank | Fort Payne | AL
16141 | Traders & Farmers Bank | Haleyville | AL
14988 | City Bank of Hartford | Hartford | AL
8569 | Worthington Federal Bank | Huntsville | AL
3645 | Pinnacle Bank | Jasper | AL
16459 | Marion Bank and Trust Company | Marion | AL
55279 | Guardian Federal Credit Union | Montgomery | AL
16022 | Bank of Pine Hill | Pine Hill | AL
13450 | Community Spirit Bank | Red Bay | AL
6432 | First Federal Bank, A FSB | Tuscaloosa | AL
16469 | Alabama Credit Union | Tuscaloosa | AL
13531 | The American NB of Union Springs | Union Springs | AL
16403 | Small Town Bank | Wedowee | AL
16282 | Bank of York | York | AL
16532 | Library of Congress Federal Credit Union | Washington | DC
55204 | Transportation Federal Credit Union | Washington | DC
16373 | Platinum Bank | Brandon | FL
55062 | Focus Credit Union | Chattahoochee | FL
16128 | Citizens Bank and Trust | Frostproof | FL
16162 | Columbia Bank | Lake City | FL
10618 | Pacific National Bank | Miami | FL
13121 | City National Bank of Florida | Miami | FL
14891 | INTERCREDIT BANK, N.A. | Miami | FL
55142 | Sabadell United Bank, National Association | Miami | FL
14956 | Farmers and Merchants Bank | Monticello | FL
16000 | The First National Bank of Mount Dora | Mount Dora | FL
16554 | Fairwinds Credit Union | Orlando | FL
55140 | Orlando | Orlando | FL
16312 | Community Credit Union of Florida | Rockledge | FL
55139 | San Antonio Citizens Credit Union | San Antonio | FL
16894 | Cornerstone Community Bank | St. Petersburg | FL
54987 | United Property and Casualty Insurance Company | St. Petersburg | FL
55050 | Envision Credit Union | Tallahassee | FL
15965 | Grand Bank & Trust of Florida | West Palm Beach | FL
16209 | AB&T National Bank | Albany | GA
16288 | SunTrust Bank, Atlanta | Atlanta | GA
55261 | MAG Mutual Insurance Company | Atlanta | GA
55156 | Georgia's Own Credit Union | Atlanta | GA
12916 | First Port City Bank | Bainbridge | GA
13209 | Peoples State Bank and Trust | Baxley | GA
14771 | Bank of Early | Blakely | GA
16903 | The Citizens Bank of Forsyth County | Cumming | GA
16387 | First Bank of Dalton | Dalton | GA
16918 | Alliance National Bank | Dalton | GA
16316 | The Bank of Edison | Edison | GA
14936 | Colony Bank | Fitzgerald | GA
15999 | Community Banking CO of Fitzgerald | Fitzgerald | GA
16499 | Farmers State Bank | Lumpkin | GA
16489 | The Security State Bank | McRae | GA
17511 | First Bank of Coastal Georgia | Pembroke | GA
16315 | First Peoples Bank | Pine Mountain | GA
13289 | Citizens Bank of Washington County | Sandersville | GA
16553 | Bank of Hancock County | Sparta | GA
3293 | Thomas County FS & LA | Thomasville | GA
3576 | Stephens Federal Bank | Toccoa | GA
16629 | Bank of Dade | Trenton | GA
16369 | Altamaha Bank & Trust Company | Uvalda | GA
13248 | Commercial Banking Company | Valdosta | GA
4067 | Vidalia Federal Savings Bank | Vidalia | GA
12960 | Peoples Bank (The) | Willacoochee | GA
9191 | Talbot State Bank | Woodland | GA
16596 | Harford Bank | Aberdeen | MD
2148 | Chesapeake Bank of Maryland | Baltimore | MD
2349 | Arundel Federal Savings Bank | Baltimore | MD
8156 | Madison Square Federal Savings Bank | Baltimore | MD
8193 | Fairmount Bank | Baltimore | MD
8196 | Hopkins Federal Savings Bank | Baltimore | MD
16164 | Municipal Employees C.U. of Baltimore | Baltimore | MD
16419 | Marriott Employees' Federal C.U. | Bethesda | MD
16374 | U.S. Postal Service Federal C.U. | Clinton | MD
12870 | Bank of Delmarva | Delmar | MD
6037 | The Patapsco Bank | Dundalk | MD
489 | OBA Bank | Germantown | MD
55161 | Bull Dog Federal Credit Union | Hagerstown | MD
3758 | Rosedale FS & LA | Nottingham | MD
7173 | Colombo Bank | Rockville | MD
6091 | Community Bank of Chesapeake | Waldorf | MD
12844 | Woodsboro Bank | Woodsboro | MD
3846 | Asheville Savings Bank | Asheville | NC
15964 | VantageSouth Bank | Cary | NC
16140 | Charlotte Metro Federal Credit Union | Charlotte | NC
55003 | Carolina Telco Federal Credit Union | Charlotte | NC
6343 | First Federal Bank | Dunn | NC
16546 | North Carolina Community Federal Credit Union | Goldsboro | NC
5153 | First FSB of Lincolnton | Lincolnton | NC
55081 | Southern Bank and Trust Company | Mount Olive | NC
15993 | Lumbee Guaranty Bank | Pembroke | NC
16198 | Local Government Federal Credit Union | Raleigh | NC
1350 | Roanoke Rapids Savings Bank, SSB | Roanoke Rapids | NC
1655 | Roxboro Savings Bank, SSB | Roxboro | NC
6352 | Newsouth Bank | Washington | NC
16238 | Truliant Federal Credit Union | Winston Salem | NC
5642 | Abbeville First Bank | Abbeville | SC
16177 | The Conway National Bank | Conway | SC
2502 | First Piedmont FS & LA of Gaffney | Gaffney | SC
16199 | S.C. Telco Federal Credit Union | Greenville | SC
4516 | Mutual Savings Bank | Hartsville | SC
16893 | The Commercial Bank | Honea Path | SC
16163 | Founders Federal Credit Union | Lancaster | SC
16497 | First Community Bank | Lexington | SC
55252 | Mid Carolina Credit Union | Lugoff | SC
3697 | Pee Dee Federal Savings Bank | Marion | SC
55150 | SRP Federal Credit Union | North Augusta | SC
16101 | South Carolina Federal Credit Union | North Charleston | SC
16313 | Family Trust Federal Credit Union | Rock Hill | SC
4769 | Oconee Federal Savings and Loan | Seneca | SC
55086 | SAFE Federal Credit Union | Sumter | SC
14971 | Community First Bank | Walhalla | SC
16498 | Bank of Walterboro | Walterboro | SC
55004 | Narfe Premier Federal Credit Union | Alexandria | VA
13361 | Citizens Bank and Trust Company | Blackstone | VA
16885 | Monarch Bank | Chesapeake | VA
55051 | Community Capital Bank of Virginia | Christiansburg | VA
16251 | Cardinal Bank | Fairfax | VA
55214 | Park View Federal Credit Union | Harrisonburg | VA
55009 | Northern Neck Insurance Company | Irvington | VA
55200 | CornerStone Bank, N. A. | Lexington | VA
16200 | Virginia Community Bank | Louisa | VA
3881 | Martinsville First Savings Bank | Martinsville | VA
55262 | Langley Federal Credit Union | Newport News | VA
16178 | TowneBank | Portsmouth | VA
16165 | Partners Financial Federal Credit Union | Richmond | VA
55240 | Dominion Credit Union | Richmond | VA
55221 | Chartway Federal Credit Union | Virginia Beach | VA
Federal Home Loan Bank of Cincinnati—District 5
55283 | State Auto Property & Casualty Insurance Company | West Des Moines | IA
4246 | Home FS & LA | Ashland | KY
458 | Kentucky FS & LA | Covington | KY
55041 | Inez Deposit Bank | Inez | KY
13596 | CASEY COUNTY BANK | Liberty | KY
15963 | Metro Bank | Louisville | KY
55155 | Anthem Health Plans of Kentucky, Inc. | Louisville | KY
7384 | Home Savings Bank, FSB | Ludlow | KY
16391 | FIRST GUARANTY BANK | Martin | KY
13508 | BANK OF MAYSVILLE | Maysville | KY
13528 | HART COUNTY BANK AND TRUST | Munfordville | KY
13393 | THE FARMERS BANK | Nicholasville | KY
13530 | Independence Bank of Kentucky | Owensboro | KY
15979 | FIRST SECURITY BK OF OWENSB | Owensboro | KY
16019 | OWINGSVILLE BANKING CO | Owingsville | KY
55237 | C-Plant Federal Credit Union | Paducah | KY
9685 | Community Trust Bank, Inc. | Pikeville | KY
16306 | MADISON BANK | Richmond | KY
55287 | The Farmers National Bank of Scottsville | Scottsville | KY
13586 | CUMBERLAND SECURITY BANK IN | Somerset | KY
16352 | Citizens National Bank of Somerset | Somerset | KY
55238 | Pinnacle Bank, Inc. | Vanceburg | KY
10744 | COMMERCIAL BANK | West Liberty | KY
13523 | ANTWERP EXCHANGE BK | Antwerp | OH
13102 | HOCKING VALLEY BANK | Athens | OH
16204 | ROCKHOLD BROWN & CO BANK | Bainbridge | OH
824 | Citizens FS & LA | Bellefontaine | OH
16624 | CITIZENS BANK COMPANY | Beverly | OH
4715 | Mercer Savings Bank | Celina | OH
597 | Cheviot Savings Bank | Cincinnati | OH
1409 | Cincinnati FS & LA | Cincinnati | OH
13467 | THE NORTH SIDE BANK & TRUST | Cincinnati | OH
55011 | Lafayette Life Insurance Company | Cincinnati | OH
55006 | First Choice Credit Union | Coldwater | OH
55131 | Bridge Credit Union, Inc. | Columbus | OH
55170 | Nationwide Life Insurance Company | Columbus | OH
55185 | JPMorgan Chase Bank, National Association | Columbus | OH
3901 | Home Loan Savings Bank (The) | Coshocton | OH
827 | The Covington S & LA | Covington | OH
16911 | The Citizens Bank of De Graff | De Graff | OH
16134 | Midwest Community Federal Credit Union | Defiance | OH
55005 | American Mutual Share Insurance Corporation | Dublin | OH
55171 | Eaton Family | Euclid | OH
55212 | Hancock Federal Credit Union | Findlay | OH
16130 | First National Bank of Germantown | Germantown | OH
16020 | Chaco Credit Union, Incorporated | Hamilton | OH
13352 | THE HICKSVILLE BANK | Hicksville | OH
13580 | The Delaware County B&T Company | Lewis Center | OH
55174 | Topmark Federal Credit Union | Lima | OH
16351 | THE BANK OF MAGNOLIA CO | Magnolia | OH
13476 | THE CITIZENS SAVINGS BANK | Martins Ferry | OH
5752 | Peoples First Savings Bank | Mason | OH
13066 | Commercial & Savings Bank (The) | Millersburg | OH
13552 | Peoples National Bank | New Lexington | OH
55178 | Diebold Federal Credit Union | North Canton | OH
10937 | The First National Bank of Pandora | Pandora | OH
55132 | Buckeye State Mutual Insurance Company | Piqua | OH
10728 | FARMERS BANK & SAVINGS CO | Pomeroy | OH
16244 | THE ST HENRY BANK | Saint Henry | OH
55001 | Your Legacy Federal Credit Union | Tiffin | OH
16350 | THE ARLINGTON BANK | Upper Arlington | OH
13326 | THE COMMERCIAL SAVINGS BANK | Upper Sandusky | OH
16598 | First Citizens N.B. of Upper Sandusky | Upper Sandusky | OH
2186 | Versailles Savings and Loan Company | Versailles | OH
16877 | First National Bank of Waverly | Waverly | OH
16042 | Kemba Credit Union, Inc. | West Chester | OH
55276 | Lightning Rod Mutual Insurance Company | Wooster | OH
16492 | SPRING VALLEY BANK | Wyoming | OH
919 | Home Savings and Loan Company | Youngstown | OH
2887 | Athens Federal Community Bank | Athens | TN
8951 | PEOPLE'S B&T CO OF PICKETT | Byrdstown | TN
16142 | BANK OF CAMDEN | Camden | TN
16144 | LEGENDS BANK | Clarksville | TN
16515 | Fort Campbell Federal Credit Union | Clarksville | TN
55197 | Appalachian Community Federal Credit Union | Gray | TN
13468 | GREENFIELD BANKING COMPANY | Greenfield | TN
13162 | FIRST PEOPLES BANK OF TENNE | Jefferson City | TN
55166 | Macon Bank and Trust Company | Lafayette | TN
3067 | Lawrenceburg Federal Bank | Lawrenceburg | TN
6646 | Community Bank | Lexington | TN
14563 | UNION BK & TR COMPANY | Livingston | TN
3050 | BankTennessee | Memphis | TN
16451 | Memphis City Employees Credit Union | Memphis | TN
55242 | Southern Security Federal Credit Union | Memphis | TN
16581 | FARMERS STATE BANK | Mountain City | TN
16160 | Tennessee Credit Union | Nashville | TN
16878 | Citizens Savings Bank & Trust Company | Nashville | TN
16912 | The FNB of Oneida | Oneida | TN
13067 | CITIZENS BANK & TRUST CO | Rutledge | TN
13517 | THE BANK OF WAYNESBORO | Waynesboro | TN
Federal Home Loan Bank of Indianapolis—District 6
54996 | Washington National Insurance Company | Carmel | IN
15896 | Hoosier Heartland State Bank | Crawfordsville | IN
13385 | Elberfeld State Bank (The) | Elberfeld | IN
55122 | Evansville Commerce Bank | Evansville | IN
55157 | Centurion Credit Union | Evansville | IN
16276 | Forum Credit Union | Fishers | IN
207 | MUTUAL SAVINGS BANK | Franklin | IN
55035 | Forethought Life Insurance Company | Indianapolis | IN
13452 | FARMERS STATE BANK | Lagrange | IN
2400 | WEST END SAVINGS BANK | Richmond | IN
13534 | Scott County State Bank (The) | Scottsburg | IN
16150 | Communitywide Federal Credit Union | South Bend | IN
16408 | Indiana State University Federal C.U. | Terre Haute | IN
16573 | Encompass Credit Union | Tipton | IN
16413 | Purdue Employees Federal Credit Union | West Lafayette | IN
16319 | TLC Community Credit Union | Adrian | MI
16368 | Sunrise Family Credit Union | Bay City | MI
16107 | First Independence Bank | Detroit | MI
16214 | COMMUNICATING ARTS CREDIT UNION | Detroit | MI
55208 | Tuebor Captive Insurance Company LLC | Detroit | MI
55229 | Sagelink Credit Union | Durand | MI
15831 | Michigan State University Federal CU | East Lansing | MI
16887 | Northern Michigan Bank | Escanaba | MI
16245 | Mercantile Bank of Michigan | Grand Rapids | MI
16318 | Lake Michigan Credit Union | Grand Rapids | MI
16407 | Northpointe Bank | Grand Rapids | MI
55031 | Hastings Mutual Insurance Company | Hastings | MI
15935 | THE BANK OF HOLLAND | Holland | MI
15036 | HONOR STATE BANK, HONOR | Honor | MI
11932 | First National Bank & Trust Company of Iron Mountain (The) | Iron Mountain | MI
55230 | American 1 Credit Union | Jackson | MI
55303 | John Hancock Life Insurance Company (USA) | Lansing | MI
55045 | Lapeer County Bank & Trust Co. | Lapeer | MI
55289 | Good Shepherd Credit Union | Lincoln Park | MI
15618 | MAYVILLE STATE BANK | Mayville | MI
2620 | WOLVERINE FS&LA | Midland | MI
16326 | Dow Chemical Employees Credit Union | Midland | MI
16367 | Northland Area Federal Credit Union | Oscoda | MI
16104 | PORT AUSTIN STATE BANK, PORT AUSTIN, MI | Port Austin | MI
55102 | Portland Credit Union | Portland | MI
1910 | STURGIS BANK & TRUST COMPANY, FSB | Sturgis | MI
15998 | The Lafayette Life Insurance Company | Cincinnati | OH
Federal Home Loan Bank of Chicago—District 7
13149 | Citizens National Bank of Albion | Albion | IL
16356 | Anna-Jonesboro National Bank | Anna | IL
15820 | Arcola First Bank | Arcola | IL
15737 | The First National Bank of Arenzville | Arenzville | IL
15152 | Ben Franklin Bank of Illinois | Arlington Heights | IL
16216 | West Central Bank | Ashland | IL
14570 | The Atlanta National Bank | Atlanta | IL
15639 | Scott State Bank | Bethany | IL
15616 | First State Bank Of Bloomington | Bloomington | IL
55246 | Country Life Insurance Company | Bloomington | IL
55173 | Fieldstone Credit Union | Bradley | IL
4475 | Midland Federal Savings and Loan Association | Bridgeview | IL
16302 | First National Bank of Brookfield | Brookfield | IL
13394 | Farmers & Merchants State Bank of Bushnell | Bushnell | IL
13272 | Byron Bank | Byron | IL
13443 | First State Bank of Campbell Hill | Campbell Hill | IL
13483 | Carrollton Bank | Carrollton | IL
15511 | Bank Of Chestnut | Chestnut | IL
837 | Royal Savings Bank | Chicago | IL
2281 | Hoyne Savings Bank | Chicago | IL
2335 | Loomis Federal Savings and Loan Association | Chicago | IL
3468 | North Side Federal Savings & Loan Association of Chicago | Chicago | IL
11311 | Seaway Bank and Trust Company | Chicago | IL
15967 | American Metro Bank | Chicago | IL
16548 | Chicago Patrolmen's Federal Credit Union | Chicago | IL
16602 | MB Financial Bank, National Association | Chicago | IL
55017 | The PrivateBank and Trust Company | Chicago | IL
55168 | Fidelity Life Association | Chicago | IL
55068 | American Eagle Bank of Chicago | Chicago | IL
55177 | Beverly Bank & Trust Company, National Association | Chicago | IL
55217 | AIG Specialty Insurance Company | Chicago | IL
1567 | Central Federal Savings & Loan Association | Cicero | IL
14903 | Central State Bank | Clayton | IL
3613 | DeWitt Savings Bank | Clinton | IL
16291 | First Collinsville Bank | Collinsville | IL
16866 | Crystal Lake Bank & Trust Company, National Association | Crystal Lake | IL
13188 | Soy Capital Bank and Trust Company | Decatur | IL
55094 | Millennium Bank | Des Plaines | IL
13220 | Pioneer State Bank | Earlville | IL
55042 | Scott Credit Union | Edwardsville | IL
15970 | Community First Bank | Fairview Heights | IL
16227 | Bank of Farmington | Farmington | IL
16960 | First State Bank of Forrest | Forrest | IL
14909 | Community State Bank | Galva | IL
16258 | The Gifford State Bank | Gifford | IL
55057 | SouthernTrust Bank | Goreville | IL
2649 | Harvard Savings Bank | Harvard | IL
13591 | Premier Bank of Jacksonville | Jacksonville | IL
16614 | Joy State Bank | Joy | IL
16551 | First Trust Bank of Illinois | Kankakee | IL
13506 | First National Bank of La Grange | La Grange | IL
13579 | Exchange State Bank | Lanark | IL
14246 | The Lemont National Bank | Lemont | IL
16615 | State Bank of Lincoln | Lincoln | IL
55055 | Rockford Bell Credit Union | Loves Park | IL
16552 | Prairie Community Bank | Marengo | IL
14344 | The First National Bank | Mattoon | IL
358 | A J Smith Federal Savings Bank | Midlothian | IL
9523 | Southeast National Bank | Moline | IL
2632 | Security Savings Bank | Monmouth | IL
16152 | Farmers State Bank & Trust Company | Mount Sterling | IL
55082 | The First Bank and Trust Company of Murphysboro | Murphysboro | IL
16292 | First County Bank | New Baden | IL
13398 | Warren-Boynton State Bank | New Berlin | IL
55207 | Old Plank Trail Community Bank, National Association | New Lenox | IL
15973 | The Peoples State Bank of Newton, Illinois | Newton | IL
55023 | ISU Credit Union | Normal | IL
55002 | Great Lakes Credit Union | North Chicago | IL
16033 | The Old Exchange National Bank of Okawville | Okawville | IL
16136 | First Personal Bank | Orland Park | IL
685 | Ottawa Savings Bank | Ottawa | IL
55301 | Cornerstone National Bank & Trust Company | Palatine | IL
10767 | Peoples Bank & Trust | Pana | IL
16970 | Farmers-Merchants National Bank of Paxton | Paxton | IL
15971 | Better Banks | Peoria | IL
55100 | First Community Financial Bank | Plainfield | IL
14856 | Town and Country Bank Midwest | Quincy | IL
13054 | Community State Bank of Rock Falls | Rock Falls | IL
55098 | Modern Woodmen of America | Rock Island | IL
55286 | Royal Neighbors of America | Rock Island | IL
13094 | Alpine Bank & Trust Company | Rockford | IL
13271 | Rushville State Bank | Rushville | IL
55259 | STC Capital Bank | Saint Charles | IL
16257 | American Chartered Bank | Schaumburg | IL
55251 | Motorola Employees Credit Union | Schaumburg | IL
55048 | Catholic & Community Credit Union | Shiloh | IL
16247 | State Bank of Speer | Speer | IL
13397 | Illini Bank | Springfield | IL
55306 | Horace Mann Life Insurance Company | Springfield | IL
13058 | Tuscola National Bank | Tuscola | IL
16040 | Baxter Credit Union | Vernon Hills | IL
16522 | Petefish, Skiles & Company | Virginia | IL
55179 | Consumers Cooperative Credit Union | Waukegan | IL
13564 | Community Bank | Winslow | IL
16869 | State Bank | Wonder Lake | IL
11965 | Portage County Bank | Almond | WI
55267 | Thrivent Federal Credit Union | Appleton | WI
13293 | Pioneer Bank | Auburndale | WI
10712 | The First Bank of Baldwin | Baldwin | WI
12080 | Black River Country Bank | Black River Falls | WI
13510 | Bonduel State Bank | Bonduel | WI
17079 | Bank Mutual | Brown Deer | WI
16599 | Bank of Cashton | Cashton | WI
14748 | Farmers and Merchants Union Bank | Columbus | WI
3234 | Cumberland Federal Bank, FSB | Cumberland | WI
14853 | Cornerstone Community Bank | Grafton | WI
16289 | Bay Bank | Green Bay | WI
16612 | Town Bank | Hartland | WI
55145 | Hayward Community Credit Union | Hayward | WI
15031 | Highland State Bank | Highland | WI
13185 | Park Bank | Holmen | WI
12930 | Security State Bank | Iron River | WI
5151 | East Wisconsin Savings Bank, S.A. | Kaukauna | WI
13014 | The Greenwood's State Bank | Lake Mills | WI
16547 | Wisconsin Bank and Trust | Madison | WI
55047 | University of Wisconsin Credit Union | Madison | WI
55291 | Heartland Credit Union | Madison | WI
55234 | Rural Mutual Insurance Company | Madison | WI
55071 | UnitedOne Credit Union | Manitowoc | WI
54975 | Marshfield Medical Center Credit Union | Marshfield | WI
13299 | Bank of Milton | Milton | WI
55061 | Aurora Credit Union | Milwaukee | WI
16860 | The First National Bank—Fox Valley | Neenah | WI
55092 | Landmark Credit Union | New Berlin | WI
55183 | The Peshtigo National Bank | Peshtigo | WI
10108 | Clare Bank, National Association | Platteville | WI
13222 | Mound City Bank | Platteville | WI
16915 | The First National Bank of River Falls | River Falls | WI
15900 | Intercity State Bank | Schofield | WI
13375 | Community Bank & Trust | Sheboygan | WI
15599 | Bank of Sun Prairie | Sun Prairie | WI
16861 | Walworth State Bank | Walworth | WI
5313 | First Federal Bank of Wisconsin | Waukesha | WI
55107 | Liberty Mutual Fire Insurance Company | Wausau | WI
55216 | Employers Insurance Company of Wausau | Wausau | WI
55219 | West Bend Mutual Insurance Company | West Bend | WI
3894 | KeySavings Bank | Wisconsin Rapids | WI
13592 | WoodTrust Bank | Wisconsin Rapids | WI
15776 | River Cities Bank | Wisconsin Rapids | WI
Federal Home Loan Bank of Des Moines—District 8
16508 | Landmands Bank | Audubon | IA
55008 | R.I.A. Federal Credit Union | Bettendorf | IA
55270 | Casebine Community Credit Union | Burlington | IA
12441 | Iowa Savings Bank | Carroll | IA
16617 | Commercial Savings Bank | Carroll | IA
55097 | Metco Credit Union | Cedar Rapids | IA
55181 | Midwest Family Mutual Insurance Company | Chariton | IA
16284 | PCSB Bank | Clarinda | IA
14968 | Linn County State Bank | Coggon | IA
13236 | Farmers Savings Bank | Colesburg | IA
16147 | Okey-Vernon First National Bank | Corning | IA
55020 | Capitol View Credit Union | Des Moines | IA
55034 | Des Moines Metro Credit Union | Des Moines | IA
55072 | Affinity Credit Union | Des Moines | IA
16481 | Alliant Credit Union | Dubuque | IA
55198 | IntegrUS Credit Union | Dubuque | IA
13109 | First National Bank in Fairfield | Fairfield | IA
16327 | Farmers Savings Bank | Fostoria | IA
16272 | Grinnell Mutual Reinsurance Company | Grinnell | IA
55133 | Logan State Bank | Logan | IA
16477 | Maxwell State Bank | Maxwell | IA
16574 | Bridge Community Bank | Mount Vernon | IA
16029 | State Bank & Trust Co. | Nevada | IA
16120 | First Newton National Bank | Newton | IA
55104 | Advantage Credit Union | Newton | IA
13210 | American State Bank | Osceola | IA
16105 | Panora State Bank | Panora | IA
16045 | Marion County State Bank | Pella | IA
16261 | Savings Bank | Primghar | IA
13237 | Readlyn Savings Bank | Readlyn | IA
14334 | Premier Bank | Rock Valley | IA
16390 | Home State Bank | Royal | IA
13553 | Iowa State Bank | Sac City | IA
15027 | Sanborn Savings Bank | Sanborn | IA
12931 | State Bank (The) | Spirit Lake | IA
13211 | State Bank of Toledo (The) | Toledo | IA
12142 | Iowa State Bank | Wapello | IA
16601 | Security State Bank | Waverly | IA
13381 | First State Bank | Webster City | IA
16271 | Freedom Financial Bank | West Des Moines | IA
55054 | First Class Credit Union | West Des Moines | IA
13345 | Union State Bank | Winterset | IA
16363 | Farmers & Merchants State Bank | Winterset | IA
16269 | Altura State Bank | Altura | MN
12972 | American National Bank of Minnesota | Baxter | MN
13379 | First State Bank and Trust | Bayport | MN
16901 | First National Bank Bemidji | Bemidji | MN
55059 | US Federal Credit Union | Burnsville | MN
16270 | F&M Bank Minnesota | Clarkfield | MN
55317 | The First National Bank of Cokato | Cokato | MN
12953 | The First National Bank of Coleraine | Coleraine | MN
14682 | Woodland Bank | Deer River | MN
13568 | Northwestern Bank, NA | Dilworth | MN
12883 | Western National Bank | Duluth | MN
55079 | Minnesota Power Employees Credit Union | Duluth | MN
55201 | Northern Communities Credit Union | Duluth | MN
55315 | Blue Cross and Blue Shield of Minnesota | Eagan | MN
14336 | Fidelity Bank | Edina | MN
55060 | Minnesota Bank & Trust | Edina | MN
15645 | State Bank of Fairmont | Fairmont | MN
55075 | Floodwood Area Credit Union | Floodwood | MN
16206 | Franklin State Bank | Franklin | MN
14499 | Commerce Bank | Geneva | MN
15008 | The First National Bank of Gilbert | Gilbert | MN
16146 | Eagle Bank | Glenwood | MN
12917 | First Southeast Bank | Harmony | MN
16890 | Farmers State Bank of Hartland | Hartland | MN
54991 | Peoples Community Credit Union | Hopkins | MN
55205 | Vantage Bank | Kent | MN
14362 | First Community Bank | Lester Prairie | MN
55137 | SMW Federal Credit Union | Lino Lakes | MN
16865 | Center National Bank | Litchfield | MN
55163 | American Heritage National Bank | Long Prairie | MN
16119 | Exchange State Bank | Luverne | MN
16295 | Northern Star Bank | Mankato | MN
55241 | Allianz Life Insurance Company of North America | Minneapolis | MN
55022 | Ironshore Indemnity Inc. | Minneapolis | MN
14276 | CornerStone State Bank | Montgomery | MN
55184 | Lake State Credit Union | Moose Lake | MN
14808 | Citizens State Bank Norwood Young America | Norwood Young America | MN
15007 | Odin State Bank | Odin | MN
13074 | First State Bank Southwest | Pipestone | MN
13308 | PrinsBank | Prinsburg | MN
55307 | South Metro Federal Credit Union | Prior Lake | MN
13250 | Randall State Bank | Randall | MN
2818 | Home Federal Savings Bank | Rochester | MN
16345 | North Star Bank | Roseville | MN
16188 | Unity Bank | Rush City | MN
55153 | St. Cloud Federal Credit Union | Saint Cloud | MN
55188 | Great River Federal Credit Union | Saint Cloud | MN
54981 | Associated Health Care Credit Union | Saint Paul | MN
55284 | North Shore Federal Credit Union | Silver Bay | MN
55158 | First State Bank of Swanville | Swanville | MN
16168 | Integrity Bank Plus | Wabasso | MN
16518 | Citizens State Bank of Waverly, Inc. | Waverly | MN
2984 | Wells Federal Bank | Wells | MN
16344 | Ideal Credit Union | Woodbury | MN
3435 | Worthington Federal Savings Bank, FSB | Worthington | MN
55305 | Alton Bank | Alton | MO
55298 | First Independent Bank | Aurora | MO
2639 | First Missouri Bank | Brookfield | MO
16476 | Community First Bank | Butler | MO
13004 | Carroll County Trust Co. | Carrollton | MO
2897 | Investors Community Bank | Chillicothe | MO
12906 | Chillicothe State Bank | Chillicothe | MO
16348 | Concordia Bank of Concordia | Concordia | MO
1283 | Ozarks Federal Savings and Loan Association | Farmington | MO
13125 | First State Community Bank | Farmington | MO
16588 | Callaway Bank (The) | Fulton | MO
12437 | Bank Northwest | Hamilton | MO
16978 | HNB National Bank | Hannibal | MO
16379 | Eagle Bank & Trust Company of Missouri | Hillsboro | MO
16362 | Bank of Iberia | Iberia | MO
55095 | Central Communications Credit Union | Independence | MO
55353 | United Consumers Credit Union | Independence | MO
55130 | Missouri Electric Cooperatives E | Jefferson City | MO
55021 | NBH Bank, N.A. | Kansas City | MO
55162 | Northeast Missouri State Bank | Kirksville | MO
15050 | Lamar Bank and Trust Company | Lamar | MO
13108 | Summit Bank of Kansas City | Lee's Summit | MO
15693 | Legends Bank | Linn | MO
55182 | Farmers Bank of Lohman, Missouri | Lohman | MO
14765 | First National Bank | Malden | MO
12938 | Wood & Huston Bank | Marshall | MO
16888 | Community Bank of Marshall | Marshall | MO
12915 | Central Bank of Audrain County | Mexico | MO
55233 | Community National Bank | Monett | MO
13037 | Peoples Bank of the Ozarks | Nixa | MO
55127 | Bank CBO | Oregon | MO
14925 | First Midwest Bank of the Ozarks | Piedmont | MO
55143 | Community Bank of Pleasant Hill | Pleasant Hill | MO
12921 | Peoples Savings Bank of Rhineland | Rhineland | MO
13154 | State Bank (The) | Richmond | MO
55026 | Riverways Federal Credit Union | Rolla | MO
16435 | First State Bank of St. Charles, Missouri | Saint Charles | MO
55273 | Southpointe Credit Union | Saint Louis | MO
12740 | Town & Country Bank | Salem | MO
14995 | Farmers State Bank, S/B | Schell City | MO
16285 | Third National Bank | Sedalia | MO
16891 | Senath State Bank | Senath | MO
16478 | Old Missouri Bank | Springfield | MO
55040 | CU Community Credit Union | Springfield | MO
16494 | Midwest BankCentre | St. Louis | MO
55220 | CIT Insurance Company Limited | St. Louis | MO
55310 | Capital Credit Union | Bismarck | ND
16154 | First State Bank of Cando | Cando | ND
13132 | Citizens State Bank—Midwest | Cavalier | ND
55039 | Citizens Community Credit Union | Devils Lake | ND
55218 | Dakota Plains Credit Union | Edgeley | ND
16519 | Union State Bank of Fargo | Fargo | ND
16479 | State Bank & Trust of Kenmare | Kenmare | ND
16529 | Farmers and Merchants State Bank | Langdon | ND
55141 | Citizens State Bank of Lankin | Lankin | ND
16977 | First Western Bank & Trust | Minot | ND
16486 | Lakeside State Bank | New Town | ND
16575 | McKenzie County Bank | Watford City | ND
55027 | State Bank of Eagle Butte | Eagle Butte | SD
16027 | BankStar Financial | Elkton | SD
16223 | Dakotaland Federal Credit Union | Huron | SD
887 | Home Federal Bank | Sioux Falls | SD
55056 | Service First Federal Credit Union | Sioux Falls | SD
55280 | Security State Bank | Tyndall | SD
55080 | Vermillion Federal Credit Union | Vermillion | SD
13343 | Great Western Bank | Watertown | SD
16600 | First State Bank | Wilmot | SD
Federal Home Loan Bank of Dallas—District 9
16342 | First Community Bank | Batesville | AR
16010 | Farmers Bank & Trust Company | Blytheville | AR
16535 | Centennial Bank | Conway | AR
16791 | River Town Bank | Dardanelle | AR
2597 | First Financial Bank | El Dorado | AR
11303 | FBT Bank & Mortgage | Fordyce | AR
2407 | Forrest City Bank, NA | Forrest City | AR
16263 | Benefit Bank | Ft. Smith | AR
16880 | Today's Bank | Huntsville | AR
16437 | Allied Bank | Mulberry | AR
16583 | First National Bank At Paris | Paris | AR
15840 | Delta Trust & Bank | Parkdale | AR
11395 | Relyance Bank | Pine Bluff | AR
16172 | Red River Bank | Alexandria | LA
16453 | E Federal Credit Union | Baton Rouge | LA
55088 | Pelican State Credit Union | Baton Rouge | LA
13335 | Bank of Coushatta | Coushatta | LA
3691 | Heritage Bank of St. Tammany | Covington | LA
16916 | City Savings Bank & Trust Company | DeRidder | LA
3862 | Florida Parishes Bank | Hammond | LA
16173 | Synergy Bank | Houma | LA
16610 | Coastal Commerce Bank | Houma | LA
55265 | JD Bank | Jennings | LA
165 | Mutual Savings and Loan Association | Metairie | LA
3193 | Eureka Homestead | New Orleans | LA
4160 | Hibernia Bank | New Orleans | LA
15605 | Peoples Bank and Trust Company | New Roads | LA
13234 | American Gateway Bank | Port Allen | LA
16349 | Richland State Bank | Rayville | LA
16879 | Bank of Ringgold | Ringgold | LA
3912 | Bank of Ruston | Ruston | LA
55007 | Shreveport Federal Credit Union | Shreveport | LA
13122 | Bank of St. Francisville | St. Francisville | LA
13288 | The Bank of Commerce | White Castle | LA
2674 | Amory FS & LA | Amory | MS
16386 | The Peoples Bank | Biloxi | MS
16920 | Bank of Brookhaven | Brookhaven | MS
16145 | The Cleveland State Bank | Cleveland | MS
16556 | Commerce Bank | Corinth | MS
16031 | Bank of Holly Springs | Holly Springs | MS
16357 | Sycamore Bank | Senatobia | MS
15924 | Mechanics Bank | Water Valley | MS
13830 | Fnb in Alamogordo | Alamogordo | NM
55272 | First Financial Credit Union | Albuquerque | NM
13081 | International Bank | Raton | NM
55070 | State Employees Credit Union | Santa Fe | NM
2842 | Tucumcari FS & LA | Tucumcari | NM
55147 | North East Texas Credit Union | Lone Star | TX
55264 | First Financial Bank, National Association | Abilene | TX
55274 | Communities of Abilene Federal Credit Union | Abilene | TX
55318 | National Teachers Associates Life Insurance Company | Addison | TX
55211 | Access Community Credit Union | Amarillo | TX
16855 | First State Bank | Athens | TX
55037 | Greater Texas Federal Credit Union | Austin | TX
54980 | A+ Credit Union | Austin | TX
55256 | Texas Hill Country Bank | Bandera | TX
16544 | Community Resource Credit Union | Baytown | TX
55043 | DuGood Federal Credit Union | Beaumont | TX
13317 | Texas Heritage Bank | Boerne | TX
12679 | Fannin Bank | Bonham | TX
55089 | Coastal Community and Teachers Credit Union | Corpus Christi | TX
15440 | Zavala County Bank | Crystal City | TX
3102 | NexBank, SSB | Dallas | TX
9986 | PlainsCapital Bank | Dallas | TX
16190 | Credit Union of Texas | Dallas | TX
55030 | City Credit Union | Dallas | TX
15741 | First United Bank | Dimmitt | TX
16324 | First National Bank of Dublin | Dublin | TX
55146 | Commercial State Bank | El Campo | TX
54995 | Evolve Federal Credit Union | El Paso | TX
55093 | Frontier Bank of Texas | Elgin | TX
12857 | Union State Bank | Florence | TX
15824 | OmniAmerican Bank | Fort Worth | TX
16380 | Community Bank | Fort Worth | TX
16512 | Texas Republic Bank, N.A. | Frisco | TX
55285 | Citizens National Bank | Henderson | TX
16220 | Community National Bank | Hondo | TX
15662 | Central Bank | Houston | TX
16628 | Reliance Standard Life Insurance Company of Texas | Houston | TX
16899 | Southwestern National Bank | Houston | TX
55063 | American General Life Insurance Company | Houston | TX
55065 | The Variable Annuity Life Insurance Company | Houston | TX
55044 | Memorial City Bank | Houston | TX
54999 | Energy Capital Credit Union | Houston | TX
16121 | Austin Bank, Texas N.A. | Jacksonville | TX
13097 | Texas State Bank | Joaquin | TX
16513 | Pinnacle Bank | Keene | TX
13238 | First National Bank of Lake Jackson | Lake Jackson | TX
5117 | First Federal Bank Littlefield, Texas | Littlefield | TX
14756 | Mason Bank | Mason | TX
16558 | Security Bank | Midland | TX
55215 | My Community Federal Credit Union | Midland | TX
55294 | Bank of Texas | Midland | TX
2523 | Mineola Community Bank, SSB | Mineola | TX
55076 | Titan Bank, N.A. | Mineral Wells | TX
16241 | The American National Bank of Mt. Pleasant | Mount Pleasant | TX
11054 | COMMERCIAL BANK OF TEXAS, N.A. | Nacogdoches | TX
55203 | Southwest Bank | Odessa | TX
55151 | Heritage Bank | Pearland | TX
15015 | Lone Star National Bank | Pharr | TX
8474 | Beal Bank, SSB | Plano | TX
55164 | Catalyst Corporate Federal Credit Union | Plano | TX
55311 | Prosper Bank | Prosper | TX
54994 | R Bank | Round Rock | TX
55278 | River City Federal Credit Union | San Antonio | TX
55159 | Alamo Federal Credit Union | San Antonio | TX
55312 | The Bank of San Antonio | San Antonio | TX
55126 | Air Force Federal Credit Union | San Antonio | TX
55255 | Commerce Bank Texas | Stockdale | TX
16354 | Extraco Banks, National Association | Temple | TX
16580 | Woodforest National Bank | The Woodlands | TX
15059 | First National Bank of Trinity | Trinity | TX
16605 | Citizens State Bank | Tyler | TX
10253 | First National Bank of Bosque County | Valley Mills | TX
16320 | The First N.B. of Central Texas | Waco | TX
16542 | Community Bank & Trust | Waco | TX
55148 | Members Choice of Central Texas Federal Credit Union | Waco | TX
Federal Home Loan Bank of Topeka—District 10
14815 | Premier Members Federal Credit Union | Boulder | CO
16525 | First National Bank, Cortez | Cortez | CO
2853 | Del Norte Bank, a Savings and Loan Association | Del Norte | CO
15753 | Premier Bank | Denver | CO
16155 | Citywide Banks—Aurora, CO | Denver | CO
16231 | Rocky Mountain Law Enforcement Credit Union | Denver | CO
54973 | Credit Union of Colorado, a Federal Credit Union | Denver | CO
16395 | FMS Bank | Fort Morgan | CO
15775 | Points West Community Bank | Julesburg | CO
13278 | The State Bank—La Junta—La Junta, CO | La Junta | CO
16586 | Home State Bank | Loveland | CO
55074 | Colorado National Bank | Palisade | CO
16336 | First Colorado National Bank | Paonia | CO
55099 | Power Credit Union | Pueblo | CO
55228 | Sterling Federal Credit Union | Sterling | CO
55243 | System United Corporate Federal Credit Union | Westminster | CO
54974 | B.C.S. Community Credit Union | Wheat Ridge | CO
55222 | Almena State Bank | Almena | KS
55223 | The Valley State Bank | Belle Plaine | KS
1227 | Home Savings Bank—Chanute, KS | Chanute | KS
13456 | Bank of Commerce—Chanute, KS | Chanute | KS
15958 | Farmers & Merchants Bank of Colby—Colby, KS | Colby | KS
14923 | Legacy Bank | Colwich | KS
16393 | Farmers and Drovers Bank—Council Grove, KS | Council Grove | KS
13160 | Citizens State Bank & Trust Co.—Ellsworth, KS | Ellsworth | KS
55175 | The Dickinson County Bank | Enterprise | KS
55046 | Kaw Valley State Bank | Eudora | KS
14937 | State Bank of Fredonia—Fredonia, KS | Fredonia | KS
11205 | Gardner Bank | Gardner | KS
16230 | Community Bank of the Midwest | Great Bend | KS
16183 | The Halstead Bank—Halstead, KS | Halstead | KS
55125 | Central Kansas Credit Union | Hutchinson | KS
16332 | Security Bank of Kansas City—Kansas City, KS | Kansas City | KS
16181 | Douglas County Bank—Lawrence, KS | Lawrence | KS
16397 | National Bank of Kansas City | Leawood | KS
55192 | Leonardville State Bank | Leonardville | KS
16863 | The Lyons State Bank | Lyons | KS
16335 | The Farmers State Bank—McPherson, KS | McPherson | KS
16398 | The Mission Bank—Mission, KS | Mission | KS
16964 | Carson Bank | Mulvane | KS
13340 | The Farmers State Bank of Oakley—Oakley, KS | Oakley | KS
55224 | The Olpe State Bank | Olpe | KS
16410 | Valley View State Bank—Overland Park, KS | Overland Park | KS
16392 | Citizens State Bank—Paola, KS | Paola | KS
16003 | University Bank | Pittsburg | KS
16474 | TriCentury Bank | Simpson | KS
14978 | First Bank | Sterling | KS
16184 | The Valley State Bank—Syracuse, KS | Syracuse | KS
16950 | The Tampa State Bank | Tampa | KS
16246 | Kaw Valley Bank | Topeka | KS
16420 | Community Bank | Topeka | KS
13257 | Chisholm Trail State Bank—Wichita, KS | Wichita | KS
16883 | Intrust Bank, National Association | Wichita | KS
16442 | Bank of the Valley | Bellwood | NE
13240 | Bank of Bennington—Bennington, NE | Bennington | NE
14931 | Washington County Bank—Blair, NE | Blair | NE
1806 | Custer Federal State Bank | Broken Bow | NE
16584 | First Central Bank—Cambridge, NE | Cambridge | NE
13208 | Citizens State Bank—Carleton, NE | Carleton | NE
14597 | CerescoBank—Ceresco, NE | Ceresco | NE
15945 | First Bank and Trust Company—Cozad, NE | Cozad | NE
16381 | Jefferson County Bank—Daykin, NE | Daykin | NE
15724 | Generations Bank | Exeter | NE
55193 | Richardson County Bank & Trust Company | Falls City | NE
15666 | First State Bank | Farnam | NE
13449 | First State Bank—Fremont, NE | Fremont | NE
16908 | Gothenburg State Bank | Gothenburg | NE
16651 | Five Points Bank of Hastings | Hastings | NE
15020 | Henderson State Bank—Henderson, NE | Henderson | NE
55248 | Ameritas Employees Credit Union | Lincoln | NE
55067 | University of Nebraska Federal Credit Union | Lincoln | NE
16882 | Farmers State Bank | Maywood | NE
16955 | First Central Bank McCook, NA | McCook | NE
55176 | Commercial Bank | Nelson | NE
14619 | Core Bank | Omaha | NE
16015 | First National Bank of Omaha | Omaha | NE
55084 | Petersburg State Bank | Petersburg | NE
16176 | The Potter State Bank of Potter—Potter, NE | Potter | NE
55313 | State Nebraska Bank & Trust | Wayne | NE
15019 | Citizens Bank of Ada—Ada, OK | Ada | OK
16475 | The First National Bank in Altus | Altus | OK
55226 | BancCentral, National Association | Alva | OK
9945 | The Fnb And Trust Co. of Broken Arrow | Broken Arrow | OK
16041 | Farmers Exchange Bank—Cherokee, OK | Cherokee | OK
16281 | The First National Bank And Trust Co. | Chickasha | OK
9266 | Kirkpatrick Bank | Edmond | OK
16627 | Bank of Western Oklahoma—Elk City, OK | Elk City | OK
1532 | Liberty Federal Savings Bank—Enid, OK | Enid | OK
2049 | Fairview S&La | Fairview | OK
14250 | Stockmans Bank—Altus, OK | Gould | OK
16235 | Oklahoma State Bank—Guthrie, OK | Guthrie | OK
13283 | The City NB&T Company of Guymon | Guymon | OK
14839 | The Bank of Kremlin—Kremlin, OK | Kremlin | OK
15647 | Liberty National Bank | Lawton | OK
55028 | The First National Bank of Lindsay | Lindsay | OK
15929 | The Morris State Bank—Morris, OK | Morris | OK
55066 | Great Nations Bank | Norman | OK
55314 | State Guaranty Bank | Okeene | OK
16266 | Oklahoma Educators Credit Union—Oklahoma City, OK | Oklahoma City | OK
16881 | First Security Bank And Trust Company | Oklahoma City | OK
55053 | American Benefit Life Insurance Company | Oklahoma City | OK
13117 | NBC Bank—Pawhuska, OK | Pawhuska | OK
16443 | Exchange Bank and Trust Company—Perry, OK | Perry | OK
16114 | The Central National Bank of Poteau | Poteau | OK
15705 | First National Bank of Pryor Creek—Pryor, OK | Pryor | OK
15697 | Peoples Bank & Trust Company—Ryan, OK | Ryan | OK
16016 | Southwest State Bank—Sentinel, OK | Sentinel | OK
15877 | Advantage Bank | Spencer | OK
14419 | Bank of Commerce—Stilwell, OK | Stilwell | OK
16110 | American Bank and Trust Company | Tulsa | OK
16858 | Security Bank | Tulsa | OK
13492 | Sooner State Bank—Tuttle, OK | Tuttle | OK
14420 | First State Bank—Valliant, OK | Valliant | OK
13339 | First State Bank—Watonga, OK | Watonga | OK
14454 | Peoples Bank—Westville, OK | Westville | OK
16333 | The Bank of Wyandotte—Wyandotte, OK | Wyandotte | OK
16537 | YNB | Yukon | OK
Federal Home Loan Bank of San Francisco—District 11
55191 | First Credit Union | Chandler | AZ
55134 | Arizona Central Credit Union | Phoenix | AZ
55206 | First Scottsdale Bank, National Association | Scottsdale | AZ
15981 | Burbank City Federal Credit Union | Burbank | CA
15953 | Banc Of California, National Association | Irvine | CA
16455 | Financial Partners Credit Union | Downey | CA
13217 | Murphy Bank | Fresno | CA
55308 | UNCLE Credit Union | Livermore | CA
16566 | USC Credit Union | Los Angeles | CA
15954 | Simplicity Bank | Pasadena | CA
55269 | E-Central Credit Union | Pasadena | CA
16467 | Heritage Oaks Bank | Paso Robles | CA
16377 | Provident Credit Union | Redwood Shores | CA
6051 | Provident Savings Bank | Riverside | CA
16956 | Five Star Bank | Rocklin | CA
13753 | River City Bank | Sacramento | CA
15688 | First U.S. Community Credit Union | Sacramento | CA
16008 | Neighborhood National Bank | San Diego | CA
16376 | Bank of The Orient | San Francisco | CA
16608 | Pacific Coast Bankers Bank | San Francisco | CA
55292 | State Compensation Insurance Fund | San Francisco | CA
16213 | Meriwest Credit Union | San Jose | CA
16646 | SchoolsFirst Federal Credit Union | Santa Ana | CA
16127 | Santa Cruz Community Credit Union | Santa Cruz | CA
16038 | Bank of Stockton | Stockton | CA
5801 | Universal Bank | West Covina | CA
Federal Home Loan Bank of Seattle—District 12
15956 | Credit Union 1 | Anchorage | AK
55293 | Northern Skies Federal Credit Union | Anchorage | AK
55257 | True North Federal Credit Union | Juneau | AK
55244 | ALPS Federal Credit Union | Sitka | AK
13403 | ANZ Guam, Inc. | Agana | GU
55266 | Ohana Pacific Bank | Honolulu | HI
55052 | University of Hawaii Credit Union | Honolulu | HI
55078 | Hawaii Pacific Credit Union | Honolulu | HI
55186 | Hotel and Travel Industry Federal Credit Union | Honolulu | HI
55119 | Idaho Central Credit Union | Chubbuck | ID
55258 | Westmark Credit Union | Idaho Falls | ID
55202 | Kamiah Community Credit Union | Kamiah | ID
55187 | Pioneer Federal Credit Union | Mountain Home | ID
16563 | Panhandle State Bank | Sandpoint | ID
16505 | First Citizens Bank of Butte | Butte | MT
16006 | Dutton State Bank | Dutton | MT
16237 | Valley Bank of Glasgow | Glasgow | MT
16565 | 1st Liberty Federal Credit Union | Great Falls | MT
16131 | Independence Bank | Havre | MT
55326 | Rocky Mountain Credit Union | Helena | MT
14960 | Manhattan State Bank | Manhattan | MT
55300 | Eagle Bank | Polson | MT
13504 | Community Bank, Inc. | Ronan | MT
16902 | Basin State Bank | Stanford | MT
55018 | Park Side Financial Credit Union | Whitefish | MT
55325 | Rivermark Community Credit Union | Beaverton | OR
2610 | Evergreen FS & LA | Grants Pass | OR
13260 | Bank of Eastern Oregon | Heppner | OR
55342 | Great Western Insurance Company | Ogden | UT
55117 | Transportation Alliance Bank, Inc. | Ogden | UT
55245 | Granite Federal Credit Union | Salt Lake City | UT
55213 | Cyprus Credit Union | West Jordan | UT
55118 | Great Northwest Credit Union | Aberdeen | WA
4347 | Riverview Community Bank | Camas | WA
14623 | The Bank of Washington | Edmonds | WA
16274 | Fife Commercial Bank | Fife | WA
1925 | Olympia FS & LA | Olympia | WA
16193 | TwinStar Credit Union | Olympia | WA
1528 | First FS & LA of Port Angeles | Port Angeles | WA
16484 | Seattle Savings Bank | Seattle | WA
16506 | Our Community Federal Credit Union | Shelton | WA
921 | Yakima FS & LA | Yakima | WA
55069 | Solarity Credit Union | Yakima | WA
3903 | Buffalo Federal Bank | Buffalo | WY
10647 | Hilltop National Bank | Casper | WY
55077 | Wyhy Credit Union | Cheyenne | WY
3790 | Big Horn Federal Savings Bank | Greybull | WY
15949 | Oregon Trail Bank | Guernsey | WY
9491 | Rocky Mountain Bank | Rock Springs | WY
13484 | RSNB Bank | Rock Springs | WY
15713 | Pinnacle Bank—Wyoming | Torrington | WY

II. Public Comments

To encourage the submission of public comments on the community support performance of Bank members, on or before November 17, 2014, each Bank will notify its Advisory Council, nonprofit housing developers, community groups and other interested parties in its district of the members of the Bank selected for this review cycle. 12 CFR 1290.2(b)(2)(ii). In reviewing a member for community support compliance, FHFA will consider any public comments it has received concerning the member. 12 CFR 1290.2(d). To ensure consideration by FHFA, comments concerning the community support performance of members selected for this review cycle must be submitted to FHFA, either by electronic mail to hmgcommunitysupportprogram@fhfa.gov, or by fax to 202-649-4130, on or before December 15, 2014.

Dated: October 27, 2014.
Melvin L. Watt,
Director, Federal Housing Finance Agency.

[FR Doc. 2014-25970 Filed 10-30-14; 8:45 am]

BILLING CODE 8070-01-P